SMALL BUSINESS ADMINISTRATION

Public Federal Regulatory Enforcement Fairness Hearing; Region II Regulatory Fairness Board

The U.S. Small Business Administration (SBA) Region II Regulatory Fairness Board and the SBA Office of the National Ombudsman will hold a public hearing on Thursday, July 14, 2005 at 8:30 a.m. The meeting will take place at the SBA New York District Office, 26 Federal Plaza, Corner of Duane Street and Broadway, 6th Floor, Conference Room A, New York, NY 10278, to receive comments and testimony from small business owners, small government entities, and small non-profit organizations concerning regulatory enforcement and compliance actions taken by Federal agencies.

Anyone wishing to attend or to make a presentation must contact Herbert Austin in writing or by fax, in order to be put on the agenda. Herbert Austin, Acting Deputy District Director, SBA New York District Office, 26 Federal Plaza, Suite 3100, New York, NY 10278, phone (212) 264-1482, fax (212) 264-7751, e-mail: Herbert.austin@sba.gov.

For more information, see our Web site at http://www.sba.gov/ombudsman.

Matthew K. Becker,
Committee Management Officer.

[FR Doc. 05-13904 Filed 7-14-05; 8:45 am]

BILLING CODE 8025-01-P